DEPARTMENT OF TRANSPORTATION

Federal Railroad Administration

[Docket No. FRA-1999-6252]

CSX Transportation, Inc.; Public Hearing

On November 1, 1999, the Federal Railroad Administration (FRA) published a notice in the Federal Register announcing CSX Transportation, Inc.'s (CSXT) request to obtain a temporary waiver of compliance from certain provisions of the Railroad Locomotive Safety Standards, Title 49, Code of Federal Regulations (CFR), Part 229. Specifically, CSXT requests relief from the requirements of 49 CFR 229.27(a)(2), Annual tests, and 49 CFR 229.29(a), Biennial tests, as solely applicable to all present and future installations of the New York Air Brake Corporation's Computer Controlled Brake (CCB) Systems on CSXT locomotives. CSXT is making this request so they can begin the implementation of a Test Plan to prove the new technology incorporated in this brake system is more reliable and safer in the rail transportation industry with the intent of relying on the CCB computer diagnostics to identify defective components and repair as required. The petitioner seeks to move toward a performance-based COTS criterion.

As a result of comments received by FRA concerning this waiver petition, FRA has determined that a public hearing is necessary before a final decision is made on this petition. Accordingly, a public hearing is hereby set for 9:00 a.m. on Wednesday, February 23, 2000, in Conference Room One, Seventh Floor, at 1120 Vermont Avenue, NW, Washington, DC 20005. Interested parties are invited to present oral statements at this hearing. The hearing will be informal and will be conducted in accordance with Rule 25 of the FRA Rules of Practice (49 CFR 211.25) by a representative designated by FRA. The FRA representative will make an opening statement outlining the scope of the hearing, as well as any additional procedures for the conduct of the hearing. The hearing will be a non-adversarial proceeding in which all interested parties will be given the opportunity to express their views regarding this waiver petition without cross-examination. After all initial statements have been completed, those persons wishing to make a brief rebuttal will be given an opportunity to do so in the same order in which initial statements were made.

Issued in Washington, DC on January 18, 2000.
Grady C. Cothen, Jr.,
Deputy Associate Administrator for Safety Standards and Program Development.

[FR Doc. 00-1500 Filed 1-20-00; 8:45 am]

BILLING CODE 4910-06-P